DEPARTMENT OF THE INTERIOR

Bureau of Land Management

[WY-040-06-1310-DB, CO-100-06-1310-DB]

Notice of Intent (NOI) To Prepare an Environmental Impact Statement and Provide Notice of Public Meetings, Hiawatha Regional Energy Development Project, Sweetwater County, WY, and Moffat County, CO, and Notice of the Potential for an Amendment to the Green River Resource Management Plan

AGENCY: Bureau of Land Management, Interior.

ACTION: NOI to prepare an Environmental Impact Statement (EIS) and to conduct public scoping for the Hiawatha Regional Energy Development Project, Sweetwater County, Wyoming and Moffat County, Colorado, and notice of potential for an amendment to the Green River Resource Management Plan, Rock Springs Field Office.

SUMMARY: Under the provisions of section 102(2)(C) of the National Environmental Policy Act (NEPA), the BLM announces its intentions to prepare an EIS and to solicit public comments regarding issues and resource information for the proposed Hiawatha Regional Energy Project, a natural gas development project consisting of conventional natural gas well development in established, producing fields.

DATES: The BLM can best use public input if comments and resource information are submitted within 45 days from publication of this notice. To provide the public with an opportunity to review the proposal and project information, the BLM will host two public meetings; one in Rock Springs, Wyoming, and another in Craig, Colorado. The BLM will notify the public of the date, time, and location of each meeting at least 15 days before the event. The announcement will be made by a news release to the media in Wyoming and Colorado, individual mailing of a scoping notice, and posting on the Web sites listed below.

ADDRESSES: Written comments or resource information can be mailed to the Field Office at: Bureau of Land Management, Rock Springs Field Office, Attn: Hiawatha Regional Energy Project, 280 Hwy 191 North, Rock Springs, WY 82901; the public may submit comments electronically at Hiawatha_EIS_WYMail@BLM.gov. Project information and documents will be available on the Web at http://www.blm.gov/eis/wy/hiawatha.

All comments and submissions will be considered in the environmental analysis process. If you do comment, we will keep you informed of decisions resulting from the analysis. Please note that public comments and information submitted in regard to this project, including names and street addresses of respondents, will be available for review and disclosure at the Field Office. Individual respondents may request confidentiality. If you wish to withhold your name, e-mail, and street address from public review or from disclosure under the Freedom of Information Act, you must state this plainly at the beginning of your written comment. Such requests will be honored to the extent allowed by law. All submissions from organizations or businesses, and from individuals identifying themselves as representatives or officials of organizations or businesses, will be made available for public inspection in their entirety.

FOR FURTHER INFORMATION CONTACT: For information regarding the project, please contact Susan Davis, Project Lead, at 307-352-0346.

SUPPLEMENTARY INFORMATION: The Hiawatha Regional Energy Project is generally located in Townships 11 through 14 North, Ranges 99 through 102 West, 6th Principal Meridian, Sweetwater County, Wyoming and Moffat County, Colorado. The project is located south of Rock Springs, Wyoming, and northwest of Craig, Colorado. The project area contains approximately 157,335 acres of mixed Federal, State, and private lands. The BLM Rock Springs Field Office manages public lands in Sweetwater County, Wyoming, and the BLM Little Snake Field Office manages public lands in Moffat County, Colorado. The Rock Springs Field Office will serve as the lead for this project.

Any authorizations and actions proposed for approval in the EIS will be evaluated to determine if they conform to the decisions in the 1997 Green River RMP. Actions that result in a change in the scope of resource uses, terms and conditions, and decisions of the Green River RMP may require amendment of the RMP. If the Bureau of Land Management (BLM) determines that a plan amendment is necessary, preparation of the Hiawatha Regional Energy Development EIS and the analysis necessary for the RMP amendment would occur simultaneously. Based on the information developed during the course of this analysis, the BLM may decide it is necessary to amend the 1997 Green River Resource Management Plan (RMP). The potential for amendment of the Green River RMP does not affect the Little Snake RMP.

The ongoing (2006) Little Snake Field Office land use plan revision (NOI November 18, 2004) contains an updated RFD that provides a reasonable estimate of projected oil and gas exploration and development for the entire Field Office planning area for the next 20 years. This reasonable foreseeable development (RFD) encompasses the project area to be analyzed and incorporates the level of development proposed in the Hiawatha Regional Energy Project EIS. The proposed action will be within the scope of the analysis for the ongoing Little Snake Field Office RMP revision and any land use planning decisions relating to the Hiawatha Project will be addressed as part of the ongoing Little Snake Field Office planning process. Further information of the status of this RMP revision may be obtained from the Little Snake Field Office's Web site at http://www.co.blm.gov/lsra/rmp.

In March 2006, Questar Exploration & Production Company, Wexpro Company, and other natural gas development companies (hereinafter referred to as (“the Operators”) submitted to the BLM a proposal to expand natural gas exploration and development operations in existing fields. The purpose of the proposal is to extract and recover natural gas for distribution to consumers. The Operators' proposal consists of development of up to 4,207 wells and associated facilities including but not limited to roads, well pads, pipelines, gas treatment and possible compression resulting in approximately 25,820 acres of short-term disturbance and 9,058 acres of life-of-project disturbance. Wells would be drilled using a combination of vertical and directional drilling techniques. The proposal calls for a 20- to 30-year construction and drilling period with another 30 years for the project operations.

The Hiawatha Regional Energy Development Project is located in an area of existing oil and gas development known as Canyon Creek, Trail, and Kinney Fields (also known as the Vermillion Basin area) in Sweetwater County, Wyoming, and the East and West Hiawatha/Sugarloaf Fields in Moffat County, Colorado. This project would meet the goals and objectives of the Energy Policy Act of 2005 and the President's National Energy Policy.

During the preparation of the EIS, development within the project area may be allowed in Wyoming as approved under the Modified Decision Record for the Vermillion Basin Natural Gas Exploration and Production Project. Other interim development will be subject to interim development guidelines on the Wyoming portion of the project.

The EIS will analyze the environmental consequences of implementing the proposed action and alternatives to the proposed action including the No Action alternative. Other alternatives under consideration include a range of drilling surface densities and pace, mitigation measures, best management practices and phased development.

Agency resource issues and concerns will be identified in the public scoping notice mailed to Federal, State and local governments, interested groups, individuals, and businesses under separate cover.

Dated: June 30, 2006.
Robert A. Bennett,
State Director.

[FR Doc. E6-14670 Filed 9-5-06; 8:45 am]

BILLING CODE 4310-22-P